DEPARTMENT OF LABOR

Pension and Welfare Benefits Administration

29 CFR Part 2510

RIN 1210-AA48

Plans Established or Maintained Pursuant to Collective Bargaining Agreements Under Section 3(40)(A) of ERISA

AGENCY: Pension and Welfare Benefits Administration, Department of Labor.

ACTION: Notice of meeting.

SUMMARY: On October 27, 2000, the Department of Labor (the Department) published in the Federal Register two proposed rules implementing section 3(40) of the Employee Retirement Income Security Act of 1974 (ERISA). See 65 FR 64482 (Oct. 27, 2000). Employee welfare benefit plans that are established or maintained for the purpose of providing benefits to the employees of more than one employer are “multiple employer welfare arrangements” (MEWAs) under section 3(40) of ERISA and therefore are subject to certain state regulations, unless they meet one of the exceptions set forth in section 3(40)(A) of ERISA, including an exception for plans or arrangements that are established or maintained under or pursuant to one or more agreements which the Secretary finds to be collective bargaining agreements. The proposed rules would establish a process and criteria for a finding by the Secretary of Labor that an agreement is a collective bargaining agreement for purposes of section 3(40) of ERISA. The proposed rules also would provide guidance for determining when an employee welfare benefit plan is established or maintained under or pursuant to such an agreement.

The proposed rules published by the Department were based on a report prepared by the Department's ERISA Section 3(40) Negotiated Rulemaking Advisory Committee (the Committee). The Committee was established under the Negotiated Rulemaking Act of 1990 and the Federal Advisory Committee Act (FACA) to develop a proposed rule implementing section 3(40)(A) of ERISA. The Department has received seven public comments on the proposed rules and has rechartered the Committee to enable the Department to obtain advice from the Committee on the public comments to the proposed rules.

The Department is convening this meeting of the Committee to consider the public comments on the proposed rules preparatory to the Department's development of final rules.

DATES: The Committee will meet from 9:30 a.m. to approximately 4:45 p.m. on Friday, March 1, 2002.

ADDRESSES: This Committee meeting will be held at the offices of the U.S. Department of Labor, 200 Constitution Avenue, NW., Washington, DC 20210, Conference Room 5, C5525 from 9:30 a.m. to 4:45 p.m. All interested parties are invited to attend this public meeting. Seating is limited and will be available on a first-come, first-serve basis. Individuals with disabilities wishing to attend should contact, at least 4 business days in advance of the meeting, Paul D. Mannina, Office of the Solicitor, Plan Benefits Security Division, U.S. Department of Labor, Room N-4611, 200 Constitution Avenue, NW., Washington, DC 20210 (telephone: 202-693-5627; fax: 202-693-5610), if special accommodations are needed. The date, location and time for any subsequent Committee meetings will be announced in advance in the Federal Register.

FOR FURTHER INFORMATION CONTACT: Paul D. Mannina, Office of the Solicitor, Plan Benefits Security Division, U.S. Department of Labor, Room N-4611, 200 Constitution Avenue, NW., Washington, DC 20210 (telephone: 202-693-5627; fax: 202-693-5610). These are not toll-free numbers.

SUPPLEMENTARY INFORMATION: Minutes of all public meetings and other documents made available to the Committee will be available for public inspection and copying in the public Documents Room, Pension and Welfare Benefits Administration, U.S. Department of Labor, Room N-5638, 200 Constitution Avenue, NW., Washington, DC from 8:30 a.m. to 4:30 p.m. Any written comments on these minutes should be directed to the ERISA 3(40) Negotiated Rulemaking Advisory Committee, and sent to Paul D. Mannina, Office of the Solicitor, Plan Benefits Security Division, U.S. Department of Labor, Room N-4611, 200 Constitution Avenue, NW., Washington, DC 20210 (telephone: 202-693-5627; fax: 202-693-5610). These are not toll-free numbers.

Agenda

The Committee will discuss the public comments received by the Department in response to the publication of the proposed rules.

Members of the public may file a written statement pertaining to the subject of this meeting by submitting 15 copies on or before Friday, February 22, 2002, to Paul D. Mannina, Office of the Solicitor, Plan Benefits Security Division, U.S. Department of Labor, Room N-4611, 200 Constitution Avenue, NW., Washington, DC 20210. Individuals or representatives wishing to address the Committee should forward their request to Mr. Mannina or telephone him at 202-693-5627. During the negotiation session, time permitting, there shall be time for oral public comment. Members of the public are encouraged to keep oral statements brief, but extended written statements may be submitted for the record.

Organizations or individuals may also submit written statements for the record without presenting an oral statement. Fifteen (15) copies of such statements should be sent to Mr. Mannina at the above address. Papers will be accepted and included in the record of the meeting if received on or before Friday, February 22, 2002.

Signed at Washington, DC, this 29th day of January, 2002.
Ann L. Combs,
Assistant Secretary, Pension and Welfare Benefits Administration.

[FR Doc. 02-2641 Filed 2-4-02; 8:45 am]

BILLING CODE 4510-29-P